FEDERAL DEPOSIT INSURANCE CORPORATION

[OMB No. 3064-0143; -0204]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0143 and -0204).

DATES: Comments must be submitted on or before September 22, 2023.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Forms Relating to Processing Deposit Insurance Claims.

OMB Number: 3064-0143.

Affected Public: Private sector individuals and entities maintaining deposits at insured depository institutions.

Burden Estimate:

Summary of Estimated Annual Burden
[OMB No. 3064-0143]
Information collection (obligation to respond) | Type of burden (frequency of response) | Number of respondents | Number of responses per respondent | Time per response (HH:MM) | Annual burden (hours)
1. 7200/04—Declaration for Government Deposit (Required to obtain benefit) | Reporting (On occasion) | 1 | 1 | 00:30 | 1
2. 7200/05—Declaration for Revocable Living Trust (Required to obtain benefit) | Reporting (On occasion) | 1 | 1 | 00:30 | 1
3. 7200/06—Declaration of Independent Activity (Required to obtain benefit) | Reporting (On occasion) | 1 | 1 | 00:30 | 1
4. 7200/07—Declaration of Independent Activity for Unincorporated Association (Required to obtain benefit) | Reporting (On occasion) | 1 | 1 | 00:30 | 1
5. 7200/08—Declaration for Joint Ownership Deposit (Required to obtain benefit) | Reporting (On occasion) | 1 | 1 | 00:30 | 1
6. 7200/09—Declaration for Testamentary Deposit (Required to obtain benefit) | Reporting (On occasion) | 1 | 1 | 00:30 | 1
7. 7200/10—Declaration for Defined Contribution Plan (Required to obtain benefit) | Reporting (On occasion) | 1 | 1 | 01:00 | 1
8. 7200/11—Declaration for IRA/KEOGH Deposit (Required to obtain benefit) | Reporting (On occasion) | 1 | 1 | 00:30 | 1
9. 7200/12—Declaration for Defined Benefit Plan (Required to obtain benefit) | Reporting (On occasion) | 1 | 1 | 01:00 | 1
10. 7200/13—Declaration for Custodian Deposit (Required to obtain benefit) | Reporting (On occasion) | 1 | 1 | 00:30 | 1
11. 7200/14—Declaration for Health and Welfare Plan (Required to obtain benefit) | Reporting (On occasion) | 1 | 1 | 01:00 | 1
12. 7200/15—Declaration for Plan and Trust (Required to obtain benefit) | Reporting (On occasion) | 1 | 1 | 00:30 | 1
13. 7200/18—Declaration for Irrevocable Trust (Required to obtain benefit) | Reporting (On occasion) | 1 | 1 | 00:30 | 1
14. 7200/24—Claimant Verification (Required to obtain benefit) | Reporting (On occasion) | 1 | 1 | 00:30 | 1
15. 7200/26—Depositor Interview (Required to obtain benefit) | Reporting (On occasion) | 1 | 1 | 00:30 | 1
16. Deposit Broker Submission Checklist (Required to obtain benefit) | Reporting (On occasion) | 1 | 1 | 00:05 | 0
17. Electronic file on customers, “Broker Input File Requirements” (Required to obtain benefit) | Reporting (On occasion) | 1 | 1 | 00:45 | 1
18. Exhibit A, Affidavit of Agency Account form (Required to obtain benefit) | Reporting (On occasion) | 1 | 1 | 05:00 | 5
19. Exhibit B, The standard agency agreement, or the non-standard agency agreement (Required to obtain benefit) | Reporting (On occasion) | 1 | 1 | 00:10 | 0
Total Annual Burden (Hours) |  |  |  |  | 21:00
Source: FDIC.
Note: The annual burden estimate for a given collection is calculated in two steps. First, the total number of annual responses is calculated as the whole number closest to the product of the annual number of respondents and the annual number of responses per respondent. Then, the total number of annual responses is multiplied by the time per response and rounded to the nearest hour to obtain the estimated annual burden for that collection. This rounding ensures the annual burden hours in the table are consistent with the values recorded in the OMB's regulatory tracking system.
This calculation method results in the rounding down to zero hours of very small values such as those shown in ICs 16 and 19.

General Description of Collection: When an insured depository institution (IDI) is closed by its primary regulatory authority, the FDIC has the responsibility to pay the insured deposits pursuant to section 11(a) and (f) of the Federal Deposit Insurance Act (FDI Act), 12 U.S.C. 1821(a) and (f); and the FDIC's regulations, “Deposit Insurance Coverage,” 12 CFR part 330, and “Recordkeeping for Timely Deposit Insurance Determination,” 12 CFR part 370. In the event that the requisite information is not available in a failed IDI's records, the FDIC will utilize these forms, declarations and affidavits to request the necessary information from a depositor. The forms are used to facilitate the FDIC's deposit insurance determinations in the event of the failure of an insured depository institution. It includes 19 information collection (IC) line items, including 15 that apply to both depositors and their agents (e.g. deposit brokers) and four intended for use by agents alone.

There is no change in the substance or methodology of this information collection. The change in burden is due to the decline in estimated burden hours from 590 to 21 hours. The decline in estimated hours is driven by the decline in deposit insurance determinations and associated valid form submissions in the 2018-2022 period.

2. Title: Margin and Capital Requirements for Swap Entities [Interagency] IFR.

OMB Number: 3064-0204.

Forms: None.

Affected Public: Any FDIC-insured state-chartered bank that is not a member of the Federal Reserve System or FDIC-insured state-chartered savings association that is registered as a swap dealer, major swap participant, security based swap dealer, or major security based swap participant.

Burden Estimate:

Summary of Estimated Annual Burden
[OMB No. 3064-0204]
Information collection (obligation to respond) | Type of burden (frequency of response) | Number of respondents | Number of responses per respondent | Time per response (HH:MM) | Annual burden (hours)
1. § 349.2 Definition of “Eligible Master Netting Agreement,” paragraphs (4)(i) and (ii) § 349.8(g) Documentation § 349.10 Documentation of Margin Matters (Mandatory) | Recordkeeping (Annual) | 1 | 1 | 5:00 | 5
2. § 349.7(c) Custody Agreement (Mandatory) | Recordkeeping (Annual) | 1 | 1 | 100:00 | 100
3. § 349.8(c) and (d) Initial Margin Model (Mandatory) | Reporting (On occasion) | 1 | 1 | 240:00 | 240
4. § 349.8(f)(3) Initial Margin Modeling Report (Mandatory) | Reporting (On occasion) | 1 | 1 | 50:00 | 50
5. § 349.8(h) Escalation Procedures (Mandatory) | Recordkeeping (Annual) | 1 | 1 | 20:00 | 20
6. § 349.9(e) Requests for Determinations (Required to Obtain Benefits) | Reporting (On Occasion) | 1 | 1 | 10:00 | 10
7. Documentation, 12 CFR 349.8(g) (Mandatory) | Recordkeeping (Annual) | 1 | 1 | 80:00 | 80
Total Annual Burden (Hours): |  |  |  |  | 505
Source: FDIC.
Note: The annual burden estimate for a given collection is calculated in two steps. First, the total number of annual responses is calculated as the whole number closest to the product of the annual number of respondents and the annual number of responses per respondent. Then, the total number of annual responses is multiplied by the time per response and rounded to the nearest hour to obtain the estimated annual burden for that collection. This rounding ensures the annual burden hours in the table are consistent with the values recorded in the OMB's regulatory tracking system.

General Description of Collection: The regulations at part 349 subpart A impose reporting and recordkeeping requirements, as defined by the PRA, on any FDIC-insured state-chartered bank that is not a member of the Federal Reserve System or FDIC-insured state-chartered savings association that is registered as a swap entity (covered swap entity). As such, the FDIC must periodically obtain approval from the Office of Management and Budget (OMB) for these collections of information (ICs) with respect to covered swap entities. The OMB approves these ICs through OMB No. 3064-0204, and last approved the ICR on September 8, 2020 (2020 ICR). OMB No. 3064-0204 is set to expire on September 30, 2023. The 2020 ICR contained eleven ICs comprising 1,261 estimated annual responses for an estimated annual burden of 1,740 hours.

There is no change in the substance or methodology of this information collection. The change in burden is due to the decline in estimated burden hours from 1,760 to 505 hours. The decline in estimated hours is driven primarily from a reduction in the number of ICs relative to the 2020 ICR. The ICs from the 2020 ICR that were not included in this renewal had an estimated 1,253 annual responses and an estimated 1,295 annual burden hours.

Request for Comment

Comments are invited on: (a) whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated July 18, 2023.
James P. Sheesley,
Assistant Executive Secretary.

[FR Doc. 2023-15563 Filed 7-21-23; 8:45 am]

BILLING CODE 6714-01-P